DEPARTMENT OF THE INTERIOR

Bureau of Land Management

[NM-010-1430-EU/1430-HN; NM 101521]

Notice of Availability of a Draft Environmental Impact Statement (DEIS) for a Proposed Land Exchange With the Pueblo of Santo Domingo; Albuquerque Field Office, New Mexico

AGENCY: Bureau of Land Management, Interior.

ACTION: Notice.

SUMMARY: The Bureau of Land Management (BLM), Albuquerque Field Office has completed a DEIS. This document describes and analyzes three alternatives for a land exchange. The exchange would involve public land north of County Road 252 A (formerly State Road 22) and south of the Santo Domingo Reservation, and private lands of equal value yet to be identified, within high-priority acquisition areas (as identified in the Rio Puerco and the Taos Resource Management Plans). The alternatives are: (A) Proposed Action—exchange public lands with a conservation easement, (B) Exchange public lands with no conservation easement, and (C) No Action.

The following described public lands are being analyzed for disposal through exchange to the Santo Domingo Pueblo by the United States:

New Mexico Principal Meridian

T. 13 N., R. 6 E.,

Sec. 1, lots 5, 6, 7, and 13.

T. 14 N., R. 6 E.,

Sec. 9, lots 9, 10, S½;

Sec. 10, lots 10 to 13, inclusive, S½S½;

Sec. 11, lots 9, 10 and 11;

sec. 13, lots 5 to 8, inclusive, S½NW¼ and S½;

Sec. 14, lot 2, NW¼NE¼, S½NE¼, NW¼, and S½;

Sec. 15;

Sec. 22, lots 1, 5, and 6;

Sec. 23, lots 1 to 4, inclusive, N½ and SE¼;

Secs. 24 and 25;

Sec. 26, lots 1, 2, 6 to 9, inclusive, and lots 15, and 16, NE¼;

Sec. 35, lots 1, 2, 5 to 8, inclusive, and lot 11.

T. 13 N., R. 7 E.,

Sec. 6, lots 5 to 12, inclusive;

Sec. 7, lots 5, 6, 7, and 11.

T. 14 N., R. 7 E.,

Sec. 17, lots 10 and 11;

Sec. 18, lots 5 to 8, inclusive, SW¼ and S½SE¼;

Sec. 19;

Sec. 20, lots 1 to 4, inclusive;

Sec. 29, lots 1 and 2;

Sec. 30, lots 1 to 5, inclusive, N½N½, SW¼NW¼ and W½SW¼;

Sec. 31, lots 1 to 4, inclusive, W½W½.

The areas described aggregate 7,376.34 acres.

In this proposed exchange, the United States would acquire lands of equal value that are yet to be identified within or adjacent to BLM Wilderness Study Areas, Areas of Critical Environmental Concern, Special Management Areas and/or other BLM high-priority acquisition areas.

DATES: Written comments must be postmarked no later than January 15, 2001. A public open house to discuss the alternatives will be held in the main conference room at the BLM Albuquerque Field Office, 435 Montaño Rd. NE, Albuquerque, New Mexico from 4 p.m. to 7 p.m. on Monday, December 18, 2000.

ADDRESSES: Written comments should be sent to: Albuquerque Field Manager, BLM Albuquerque Field Office, 435 Montaño Rd. NE, Albuquerque, New Mexico 87107-4935.

Copies of the DEIS are available for review at the Albuquerque Field Office and at the following address on the Internet: www.nm.blm.gov. Additional copies are available at the following BLM New Mexico offices: State Office, 1474 Rodeo Road, Santa Fe; and Taos Field Office, 226 Cruz Alta Road, Taos.

FOR FURTHER INFORMATION CONTACT: Debby Lucero, BLM Albuquerque Field Office at the above address, or telephone (505) 761-8787, fax (505) 761-8911.

SUPPLEMENTARY INFORMATION: The following issues are addressed in the environmental analysis: (1) Ecological Sites/Vegetation, (2) Threatened, Endangered and Other Special Status Species, (3) Water Resources, (4) Wildlife, (5) Geology/Paleontology, (6) Minerals, (7) Land Uses, (8) Wilderness, (9) Recreation, (10) Visual Resources, (11) Air Quality and Noise, (12) Hazardous Materials, (13) Cultural Resources, (14) American Indian Uses, (15) Rangeland Management, and (16) Socioeconomic Conditions.

All public lands managed by the Albuquerque Field Office are identified in a lower class retention zone, so they may be disposed of only for lands in a higher class retention zone. The lands to be acquired by the BLM through this exchange are in high class retention areas, supporting their acquisition through exchange of lower class retention lands to the Pueblo.

Edwin J. Singleton,
Albuquerque Field Manager.

[FR Doc. 00-30117 Filed 11-29-00; 8:45 am]

BILLING CODE 4310-AG-M